DEPARTMENT OF ENERGY

Federal Energy Regulatory Commission

[Project No. 12790-001]

Andrew Peklo III; Notice of Application Tendered for Filing With the Commission and Soliciting Additional Study Requests

Take notice that the following hydroelectric application has been filed with the Commission and is available for public inspection.

a. Type of Application: Exemption From Licensing.

b. Project No.: 12790-001.

c. Date Filed: February 16, 2011.

d. Applicant: Andrew Peklo III.

e. Name of Project: Pomperaug Hydro Project.

f. Location: On the Pomperaug River, in the Town of Woodbury, Litchfield County, Connecticut. The project would not occupy lands of the United States.

g. Filed Pursuant to: Public Utility Regulatory Policies Act of 1978, 16 U.S.C. 2705, 2708.

h. Applicant Contact: Andrew Peklo III, 29 Pomperaug Road, Woodbury, CT 06798, (203) 263-4566, themill@charter.net.

i. FERC Contact: Steve Kartalia, (202) 502-6131 or Stephen.kartalia@ferc.gov.

j. Cooperating agencies: Federal, State, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 18, 2011.

All documents may be filed electronically via the Internet. See 18 CFR 385.2001(a)(1)(iii) and the instructions on the Commission's Web site (http://www.ferc.gov/docs-filing/ferconline.asp). Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

m. The application is not ready for environmental analysis at this time.

n. The Pomperaug Hydro Project would consist of: (1) The existing 90-foot-long, 15-foot-high Pomperaug River dam equipped with three existing gates; (2) an existing 4-acre impoundment with a normal water surface elevation of 226 feet msl; (3) an existing 40-foot-long, 42 to 50-inch-diameter penstock; and (4) an existing powerhouse integral to the dam containing one new 76-kilowatt turbine generating unit. Project power would be transmitted through a new 35-foot-long, 260-kilovolt underground transmission line. The proposed project is estimated to generate an average of 300,000 kilowatt-hours annually.

The applicant proposes to: (1) Rehabilitate the existing gates including constructing a new intake structure with a trashrack; and (2) construct a new fish passage facility adjacent to the existing powerhouse.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

p. With this notice, we are initiating consultation with the Connecticut State Historic Preservation Officer (SHPO), as required by 106, National Historic Preservation Act, and the regulations of the Advisory Council on Historic Preservation, 36, CFR, at 800.4.

q. Procedural schedule: The application will be processed according to the following Hydro Licensing Schedule. Revisions to the schedule will be made as appropriate (e.g., if scoping is waived, the schedule would be shortened).

Issue Deficiency Letter | April 2011.
Issue Notice of Acceptance | June 2011.
Issue Scoping Document | July 2011.
Issue Notice ready for environmental analysis | September 2011.
Issue Notice of the availability of the EA | February 2012.

Dated: February 24, 2011.
Kimberly D. Bose,
Secretary.

[FR Doc. 2011-4857 Filed 3-3-11; 8:45 am]

BILLING CODE 6717-01-P